DEPARTMENT OF DEFENSE

Department of the Air Force

Proposed Collection; Comment Request

AGENCY: Headquarters, Air Force Reserve Officer Training Corps (AFROTC), Maxwell Air Force Base, Alabama.

ACTION: Notice.

In compliance with Section 3503(c)(2)(A) of the Paperwork Reduction Act of 1995, Headquarters Air Force Reserve Officer Training Corps announces the proposed reinstatement of a public information collection and seeks public comment on the provisions thereof. Comments are invited on: (a) Whether the proposed collection of information is necessary for the proper performance of the agency, including whether the information shall have practical utility; (b) the accuracy of the agency's estimate of the burden of the proposed information collection; (c) ways to enhance the quality, utility, and clarity of the information to be collected; and (d) ways to minimize the burden of the information collection on respondents, including the use of automated collection techniques or other forms of information technology.

DATES: Consideration will be given to all comments received within 60 days of this notice.

ADDRESSES: Written comments and recommendations on the proposed information collections should be sent to HQ AFROTC/RRU, 551 East Maxwell Boulevard, Maxwell AFB AL 36112-6106. Comments can also be submitted via e-mail to margaret.taylor@maxwell.af.mil.

FOR FURTHER INFORMATION CONTACT: To request more information on this proposed collection or to obtain a copy of the proposal and associated collection instruments, please write to the above addresses or call (334) 953-2528.

Title, Associated Form, and OMB Number: Air Force ROTC College Scholarship Application, OMB Number 0701-0101.

Affected Public: High school seniors and recent graduates who apply for an Air Force ROTC scholarship.

Annual Burden Hours: 8,500 (17,000 responses at 30 minutes each).

Number of Responses: 17,000.

Responses Per Respondent: 1.

Average Burden Per Response: 30 minutes.

Frequency: Annual.

SUPPLEMENTARY INFORMATION: Respondents will be high school seniors and recent graduate who apply for an Air Force ROTC college scholarship. This application will require approximately 30 minutes to complete. Respondents will have the option of completing the application on the Air Force ROTC internet homepage. Submitted data will be evaluated by Air Force ROTC College Scholarship Program selection boards to determine eligibility and to select individuals for the award of a college scholarship.

Pamela Fitzgerald,
Air Force Federal Register Liaison Officer.

[FR Doc. 03-27733 Filed 11-4-03; 8:45 am]

BILLING CODE 5001-05-P